DEPARTMENT OF COMMERCE

International Trade Administration

[A-428-825]

Stainless Steel Sheet and Strip in Coils From Germany: Amended Final Determination of Antidumping Duty Investigation

AGENCY: Import Administration, International Trade Administration, Department of Commerce.

ACTION: Notice of Amended Final Determination of Antidumping Duty Investigation.

EFFECTIVE DATE: December 28, 2001.

SUMMARY: On July 27, 1999, the Department of Commerce (the Department) published an amended final determination of its antidumping duty investigation of stainless steel sheet and strip in coils from Germany. See Notice of Amended Final Determination of Sales at Less Than Fair Value and Antidumping Duty Order; Stainless Steel Sheet and Strip in Coils From Germany, 64 FR 40557 (July 27, 1999). Parties to the proceedings subsequently challenged certain aspects of our final determination before the United States Court of International Trade (the Court). This litigation resulted in two remand orders by the Court, to which the Department timely responded.

On October 19, 2001, the Court affirmed the redetermination made by the Department pursuant to the Court's second remand of the final determination of sales at less than fair value of stainless steel sheet and strip in coils from Germany. See Krupp Thyssen Nirosta GmbH and Krupp Hoesch Steel Products, Inc. v. United States, Court No. 99-08-0050, Slip Op. 01-123 (CIT October 19, 2001). As there is now a final and conclusive court decision with respect to litigation for Krupp Thyssen Nirosta GmbH and Krupp Hoesch Steel Products, Inc. v. United States, Court No. 99-08-0050, we are hereby amending our final determination of sales at less than fair value and will instruct U.S. Customs of the resultant changes in the relevant cash deposit instructions.

FOR FURTHER INFORMATION CONTACT: Patricia Tran or Robert James at (202) 482-1121, or (202) 482-0649, respectively, Antidumping and Countervailing Duty Enforcement Group III, Import Administration, International Trade Administration, U.S. Department of Commerce, 14th Street and Constitution Avenue, NW, Washington, DC 20230.

SUPPLEMENTARY INFORMATION:

Background

Below is a summary of the litigation for the April 1, 1997 through March 31, 1998 final determination for which the Court has issued final and conclusive decisions.

On July 27, 1999, the Department published in the Federal Register a notice of amended final determination of sales at less than fair value and antidumping duty order on stainless steel sheet and strip in coils from Germany. See Notice of Amended Final Determination of Sales at Less Than Fair Value and Antidumping Duty Order; Stainless Steel Sheet and Strip in Coils From Germany, 64 FR 40557 (July 27, 1999) (Amended Final Determination).

Following publication of the amended final determination, Krupp Thyssen Nirosta GmbH (KTN) and Krupp Hoesch Steel Products, Inc. (KHSP) filed a lawsuit with the Court challenging certain aspects of the Department's findings in the antidumping investigation of stainless steel sheet and strip in coils from Germany.

On July 31, 2000, the Court remanded eight issues from the Amended Final Determination, ordering the Department to either alter its approach or to provide additional explanation or adduce substantial evidence that its original approach was in accordance with law and otherwise supported by substantial evidence. See Krupp Thyssen Nirosta GmbH and Krupp Hoesch Steel Products, Inc. v. United States, Court No. 99-08-0050, Slip Op. 00-89 (CIT 2000) (Krupp I).

On October 30, 2000 the Department issued its Results of Redetermination Pursuant to Court Remand Stainless Steel Sheet and Strip in Coils from Germany (Remand Determination I) addressing the concerns of the Court as stated in Krupp I.

On July 9, 2001 the Court issued a second order remanding the Department's Remand Determination I. In Krupp Thyssen Nirosta GmbH and Krupp Hoesch Steel Products, Inc. v. United States, Court No. 99-08-0050, Slip Op. 01-84 (CIT 2001) (Krupp II), the Court sustained our first redetermination as to facts available for certain downstream sales, our rejection of an affiliated U.S. reseller's database, and our application of facts available with respect to allocating sales of unidentified origin. See Krupp II. However, the Court directed the Department: i) to use facts available for the purpose of calculating U.S. Reseller's margin rate and any other calculation predicated on U.S. Reseller's cost and sales data; and, ii) to calculate facts available for the reseller in a way that uses sales prices net of movement and selling expenses.

On September 7, 2001 the Department issued its Draft Results of Redetermination to the plaintiffs and defendant-intervenors to comment. Neither party submitted comments on the Department's Draft Results of Redetermination. Pursuant to Krupp II the Department filed its redetermination on remand on September 14, 2001. The Department's Results of Redetermination were identical to the Draft Results of Redetermination.

On October 19, 2001, the Court affirmed the Department's remand determination. See Krupp Thyssen Nirosta GmbH and Krupp Hoesch Steel Products, Inc. v. United States, Court No. 99-08-0050, Slip Op. 01-123 (CIT October 19, 2001). The period to appeal has expired and no appeal was filed. Therefore, there is now a final and conclusive court decision with respect to the final determination of sales at less than fair value, and we are amending our final determination of the antidumping duty investigation for KTN based on our recalculation of KTN's rates pursuant to the remand. The amended final determination margin for KTN is 13.48 percent. As a result of these changes, the “All Others” rate also changes to 13.48 percent. We will instruct the U.S. Customs to change the relevant cash deposit instructions, effective December 28, 2001.¹

¹ On February 20, 2002, the Department published the final results of the 1999 - 2000 administrative review of this order, establishing a new cash deposit rate of 2.61 percent for KTN. As a result, our cash deposit instructions for this amended final will serve only to correct the “All Others” rate.

Amendment to Final Determination

Pursuant to section 516A(e) of the Tariff Act of 1930, as amended (the Act), we are now amending the final determination of the sales at less than fair value investigation. The amended weighted-average margins are:

Exporter/ Manufacturer | Weighted-Average Margin ­(percent)
Krupp Thyssen Nirosta GmbH | 13.48
All Others | 13.48

We will instruct U.S. Customs to change the existing “All Others” cash deposit requirements accordingly, effective December 28, 2001. We note that KTN's current cash deposit rate is based upon an administrative review conducted subsequent to this segment of the proceeding. Therefore, this amended final determination does not affect the cash deposit rate for KTN.

Dated: March 20, 2002
Faryar Shirzad,
Assistant Secretary for Import Administration.

[FR Doc. 02-7653 Filed 3-28-02; 8:45 am]

BILLING CODE 3510-DS-S